FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Mary M. West--Division of Research and Statistics, Board of Governors of the Federal Reserve System, Washington, DC 20551 (202-452-3829); OMB Desk Officer-Joseph F. Lackey, Jr.--Office of Information and Regulatory Affairs, Office of Management and Budget, New Executive Office Building, Room 10235, Washington, DC 20503 (202-395-7316).

Final Approval Under OMB Delegated Authority of the Extension for Three Years, Without Revision, of the Following Reports:

1. Report title: Recordkeeping Requirements Associated with the Real Estate Lending Standards Regulation for State Member Banks

Agency form number: Reg H-5

OMB Control number: 7100-0261

Frequency: Aggregate report, quarterly; policy statement, annually

Reporters: State member banks

Annual reporting hours: 21,060 hours

Estimated average hours per response: Aggregate report, 5 hours; policy statement, 20 hours

Number of respondents: 976

Small businesses are affected.

General description of report: This information collection is mandatory (12 U.S.C. 1828(o)) and is not given confidential treatment.

Abstract: State member banks must adopt and maintain a written real estate lending policy. Also, banks must identify their loans in excess of the supervisory loan-to-value limits and report (at least quarterly) the aggregate amount of the loans to the bank's board of directors.

Board of Governors of the Federal Reserve System, June 27, 2002.
Jennifer J. Johnson
Secretary of the Board.

[FR Doc. 02-16661 Filed 7-3-02; 8:45 am]

BILLING CODE 6210-01-S